DEPARTMENT OF LABOR

Employment and Training Administration

Agency Information Collection Activities; Comment Request; ETA 902 Disaster Unemployment Assistance Activities

AGENCY: Employment and Training Administration, Labor.

ACTION: Notice.

SUMMARY: The Department of Labor (DOL), Employment and Training Administration (ETA) is soliciting comments concerning a proposed extension for the authority to conduct the information collection request (ICR) titled, “ETA 902 Disaster Unemployment Assistance Activities.” This comment request is part of continuing Departmental efforts to reduce paperwork and respondent burden in accordance with the Paperwork Reduction Act of 1995.

DATES: Consideration will be given to all written comments received by July 24, 2017.

ADDRESSES: A copy of this ICR with applicable supporting documentation; including a description of the likely respondents, proposed frequency of response, and estimated total burden may be obtained free by contacting David King by telephone at 202-693-2698, TTY 1-877-889-5627, (these are not toll-free numbers) or by email at King.David.H@dol.gov.

Submit written comments about, or requests for a copy of, this ICR by mail or courier to the U.S. Department of Labor, Employment and Training Administration, Office of Unemployment Insurance, 200 Constitution Avenue NW., Room S-4519, Washington, DC 20210; by email: King.David.H@dol.gov; or by Fax 202-693-3975.

Authority: 44 U.S.C. 3506(c)(2)(A).

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

Robert T. Stafford Disaster Relief and Emergency Assistance Act sections 410 and 423 provide for assistance to eligible individuals who are unemployed due to a major disaster. State Workforce Agencies through individual agreements with the Secretary of Labor, act as agents of the Federal government in providing Disaster Unemployment Assistance (DUA) to eligible applicants who are unemployed as a result of a major disaster. The ETA 902 Report, Disaster Unemployment Assistance Activities, is a monthly report submitted by an impacted state when a major disaster is declared by the President that provides for individual assistance (including DUA). The report contains data on DUA claims and payment activities associated with administering the DUA program. The information is used by ETA's Office of Unemployment Insurance (OUI) to determine workload counts, for example, the number of individuals determined eligible or ineligible for DUA, the number of appeals filed, and the number of overpayments issued. The report also allows OUI to track states' administrative costs for the DUA program.

Social Security Act section 303(a)(6) authorizes this information collection.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0051.

Submitted comments will also be a matter of public record for this ICR and posted on the Internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension Without Changes.

Title of Collection: Disaster Unemployment Assistance Activities.

Form: ETA 902.

OMB Control Number: 1205-0051.

Affected Public: State Workforce Agencies.

Estimated Number of Respondents: 30.

Frequency: Approximately six (6) months of reporting and a final report per disaster declared.

Total Estimated Annual Responses: 210.

Estimated Average Time per Response: 1 hour.

Estimated Total Annual Burden Hours: 210 hours.

Total Estimated Annual Other Cost Burden: $0.

Byron Zuidema,
Deputy Assistant Secretary for Employment and Training, Labor.

[FR Doc. 2017-10501 Filed 5-22-17; 8:45 am]

BILLING CODE 4510-FW-P